DEPARTMENT OF THE INTERIOR

Bureau of Land Management

[LLIDC00000.L11200000.MR0000.241A.0; 4500030921]

Notice of Public Meeting, Coeur d'Alene District Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: February 22, 2012. The meeting will begin at 9:15 a.m. and end no later than 4 p.m. The public comment period will be held from 11 a.m. to 11:30 a.m. The meeting will be held at the BLM Coeur d'Alene District Office, 3815 Schreiber Way, Coeur d'Alene, Idaho 83815.

FOR FURTHER INFORMATION CONTACT: Suzanne Endsley, RAC Coordinator, BLM Coeur d'Alene District, 3815 Schreiber Way, Coeur d'Alene, Idaho 83815 or telephone at (208) 769-5004.

SUPPLEMENTARY INFORMATION: The 15-member RAC advises the Secretary of the Interior, through the Bureau of Land Management, on a variety of planning and management issues associated with public land management in Idaho. The agenda will include the following topic: Bureau of Land Management proposals to increase recreation fees in the Coeur d'Alene Field Office (Recreation RAC Subcommittee), updates from the Cottonwood and Coeur d'Alene Field Offices, presentations on hazardous fuels reduction projects. Additional agenda topics or changes to the agenda will be announced in local press releases. More information is available at http://www.blm.gov/id/st/en/res/resource_advisory.html.

All meetings are open to the public. The public may present written comments to the RAC in advance of or at the meeting. Each formal RAC meeting will also have time allocated for receiving public comments. Depending upon the number of persons wishing to comment and time available, the time for individual oral comments may be limited. Individuals who plan to attend and need special assistance, such as sign language interpretation or other reasonable accommodations, should contact the BLM as provided above.

Dated: January 20, 2012.
Gary D. Cooper,
District Manager.

[FR Doc. 2012-1909 Filed 1-27-12; 8:45 am]

BILLING CODE 4310-GG-P